DEPARTMENT OF TRANSPORTATION

Research and Special Programs Administration

[Docket RSPA-99-4957]

Information Collection; Request for Public Comments and OMB Approval

AGENCY: Research and Special Programs Administration, Department of Transportation.

ACTION: Request for public comments and OMB approval.

SUMMARY: This notice seeks comments from the public regarding the need for RSPA to collect paperwork from gas service line operators to ensure that customers receiving gas pipeline service are aware of the availability of excess flow valves (EFV's). This notice is published (pursuant to the Paperwork Reduction Act of 1995) to measure the need for the paperwork collection on EFV's, ways to minimize the burden on operators who must respond, ways to enhance the quality of the information collected, and to verify the accuracy of the agency's estimate of the burden (measured in work hours) on pipeline operators. By advising customers of the availability of excess flow valves, the notices give customers information to help them decide if they would like to purchase excess flow valves for gas lines running into their homes. The RSPA published a notice on March 5, 2002, requesting public comment. No comments were received. This notice also seeks approval from the Office of Management and Budget to renew the existing approval of this paperwork collection.

DATES: Comments on this notice must be received by July 5, 2002, to ensure consideration.

FOR FURTHER INFORMATION CONTACT: Marvin Fell, OPS, RSPA, U.S. Department of Transportation (DOT), 400 Seventh Street, SW., Washington, DC 20950, telephone (202) 366-6205 or e-mail marvin.fell@rspa.dot.gov.

SUPPLEMENTARY INFORMATION: Title of Information Collection: Excess Flow Valves, Customer Notification.

OMB Number: 2137-0593.

Abstract: 49 U.S.C. 60110 directed DOT to prescribe regulations requiring operators to notify customers in writing about EFV availability, the safety benefits derived from installation, and the costs associated with installation. The regulations provide that, except where installation is already required, the operator will install an EFV that meets prescribed performance criteria at the customer's request, if the customer pays for the installation.

Respondents: Gas Distribution Pipeline Operators.

Estimated Number of Respondents: 1590.

Estimated Total Annual Burden on Respondents: 20,000 hours.

As used in this notice, the terms ‘paperwork information’ and ‘paperwork collection’ are synonymous, and include all work related to preparing and disseminating information related to this customer notification requirement including completing paperwork, gathering information and conducting telephone calls.

ADDRESSES: You must identify the docket number RSPA-98-4957 at the beginning of your comments. Comments can be mailed to the Office of Regulatory Affairs, Office of Management and Budget, 726 Jackson Place, NW., Washington, DC 20503, Attn: Desk Officer for DOT.

You may review the public docket containing comments in person in the Dockets Office between 9 a.m. and 5 p.m., Monday through Friday except Federal Holidays. The Dockets Office is on the plaza level of the NASSIF Building at the Department of Transportation at the above address. Also, you may review public dockets on the Internet at http.//dms.dot.gov/search. Once on the search page, type in the last four digits of the docket number shown at the beginning of this notice (in this case 4957) and click on “search.”

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC on May 30, 2002.
Stacey L. Gerard,
Associate Administrator for Pipeline Safety.

[FR Doc. 02-14045 Filed 6-4-02; 8:45 am]

BILLING CODE 4910-60-P